DEPARTMENT OF TRANSPORTATION

Federal Aviation Administration

Notice of Intent To Rule on Request To Release Airport Property at the Austin-Bergstrom International Airport, Austin, Texas

AGENCY: Federal Aviation Administration (FAA), DOT.

ACTION: Notice of Request to Release Airport Property

SUMMARY: The FAA proposes to rule and invite public comment on the release of land at the Austin-Bergstrom International Airport under the provisions of Section 125 of the Wendell H. Ford Aviation Investment Reform Act for the 21st Century (AIR 21).

DATES: Comments must be received on or before (from 30 days of the posting of this Federal Register Notice).

ADDRESSES: Comments on this application may be mailed or delivered to the FAA at the following address: Mr. Edward Agnew, Manager, Federal Aviation Administration, Southwest Region, Airports Division, Texas Airports Development Office, ASW-650, Fort Worth, Texas 76193-0650.

In addition, one copy of any comments submitted to the FAA must be mailed or delivered to the Mr. Shane Harbinson, Engineering & Planning Manager, at the following address: Austin-Bergstrom International Airport, 3600 Presidential Boulevard, Austin, Texas 78719.

FOR FURTHER INFORMATION CONTACT: Mr. Marcelino Sanchez, Program Manager, Federal Aviation Administration, Texas Airports Development Office, ASW-650, 2601 Meacham Boulevard, Fort Worth, Texas 76193-0650, Telephone: (817) 222-5652, email: marcelino.sanchez@faa.gov, fax: (817) 222-5989.

The request to release property may be reviewed in person at this same location.

SUPPLEMENTARY INFORMATION: The FAA invites public comment on the request to release property at the Austin-Bergstrom International Airport under the provisions of the AIR 21.

The following is a brief overview of the request:

The City of Austin requests the release of 0.60 acre tract (26,149 SF) of non-aeronautical airport property. In 1942, the City of Austin donated land to the United States government for a military installation (Bergstrom Air Force Base), with the stipulation that the land would revert back to the City of Austin when the government no longer needed it. The Air Force Base was officially closed on September 30, 1996. On July 27, 2001, the United States of America/Secretary of the Air Force conveyed 1989.252 acres back to the City of Austin as a result of the base closure. The 0.60 acre (26,149 SF) tract is a part of the larger 1989.252 acre tract. The property to be released will be sold to allow for highway improvements along State Highway 71.

Any person may inspect the request in person at the FAA office listed above under FOR FURTHER INFORMATION CONTACT.

In addition, any person may, upon request, inspect the application, notice and other documents relevant to the application in person at the Austin-Bergstrom International Airport, telephone number (512) 530-5562.

Issued in Fort Worth, Texas, on November 26, 2014.
Edward Agnew,
Acting Manager, Airports Division.

[FR Doc. 2014-28796 Filed 12-8-14; 8:45 am]

BILLING CODE 4910-13-P